ENVIRONMENTAL PROTECTION AGENCY

[FRL-9486-5]

Highlights of the Exposure Factors Handbook: 2011 Update Release of Final Report

AGENCY: Environmental Protection Agency (EPA).

ACTION: Notice of availability.

SUMMARY: EPA is announcing the release of the report Highlights of the Exposure Factors Handbook: 2011 Update. The Highlights of the Exposure Factors Handbook: 2011 Update provides a summary of the recommended exposure factors extracted from the Exposure Factors Handbook published on September 30, 2011. The Highlights document was prepared by the National Center for Environmental Assessment (NCEA) within EPA's Office of Research and Development. The parent Exposure Factors Handbook provides detailed data and analyses on various physiological and behavioral factors commonly used in assessing exposure to environmental chemicals.

The Highlights of the Exposure Factors Handbook: 2011 Update (EPA/600/R-10/030) is available via the Internet at http://www.epa.gov/ncea.

DATES: This report was posted publically on October 13, 2011.

ADDRESSES: The report is available primarily via the Internet on the National Center for Environmental Assessment's home page under the Recent Additions and Publications menus at http://www.epa.gov/ncea. A limited number of printed copies will be available from the Information Management Team, NCEA; telephone: (703) 347-8561; facsimile: (703) 347-8691. If you are requesting a printed copy, please provide your name, your mailing address, and the document title.

FOR FURTHER INFORMATION CONTACT: For additional information, contact the National Center for Environmental Assessment; Linda Phillips; telephone: (703) 347-0366; or email: phillips.linda@epa.gov.

SUPPLEMENTARY INFORMATION:

I. Information About the Project/Document

The Highlights of the Exposure Factors Handbook was developed to provide a brief overview of the content of the Exposure Factors Handbook: 2011 Edition and to facilitate access to its exposure factors recommendations. As such, it contains a subset of the information provided in the Handbook. Excerpts of each chapter of the Handbook and summaries of key recommendations are provided. This Highlights document is intended for use by exposure assessors, within the Agency as well as those outside, as a reference tool and source of summary information of exposure factors information. It may be used by scientists, economists, and other interested parties as a source of data and/or U.S. EPA recommendations on numeric estimates for behavioral and physiological characteristics needed to estimate exposure to environmental agents.

Dated: October 27, 2011.
Darrell A. Winner,
Acting Director, National Center for Environmental Assessment.

[FR Doc. 2011-28522 Filed 11-2-11; 8:45 am]

BILLING CODE 6560-50-P